DEPARTMENT OF HOMELAND SECURITY

U.S. Customs and Border Protection

[1651-0109]

Agency Information Collection Activities: Guam-CNMI Visa Waiver Information

AGENCY: U.S. Customs and Border Protection (CBP), Department of Homeland Security.

ACTION: 60-Day notice and request for comments; extension of an existing collection of information.

SUMMARY: The Department of Homeland Security, U.S. Customs and Border Protection will be submitting the following information collection request to the Office of Management and Budget (OMB) for review and approval in accordance with the Paperwork Reduction Act of 1995 (PRA). The information collection is published in the Federal Register to obtain comments from the public and affected agencies. Comments are encouraged and must be submitted (no later than August 21, 2020) to be assured of consideration.

ADDRESSES: Written comments and/or suggestions regarding the item(s) contained in this notice must include the OMB Control Number 1651-0109 in the subject line and the agency name. To avoid duplicate submissions, please use only one of the following methods to submit comments:

(1) Email. Submit comments to: CBP_PRA@cbp.dhs.gov.

(2) Mail. Submit written comments to CBP Paperwork Reduction Act Officer, U.S. Customs and Border Protection, Office of Trade, Regulations and Rulings, Economic Impact Analysis Branch, 90 K Street NE, 10th Floor, Washington, DC 20229-1177.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) Whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Guam-CNMI Visa Waiver Information.

OMB Number: 1651-0109.

Form Number: I-736.

Current Action: Renewal.

Type of Review: Extension/Revision (with change).

Affected Public: Individuals.

Abstract: Public Law 110-229 provides for certain aliens to be exempt from the nonimmigrant visa requirement if seeking entry into Guam or the Commonwealth of the Northern Mariana Islands (CNMI) as a visitor for a maximum stay of 45 days, provided that no potential threat exists to the welfare, safety, or security of the United States, or its territories, and other criteria are met. Upon arrival at the Guam or CNMI Ports-of-Entry, each applicant for admission presents a completed Form I-736 to CBP, which collects information about the applicant's identity and travel documents.

Several elements have been added to the Form I-736. Updates are necessary to be able to automate Form I-736, Guam-CNMI Visa Waiver Information that is use in compliance with the Guam-CNMI Visa Waiver Program. The new data elements are: the foreign passport type, social media identifier, valid email address, and social media provider/platform. The automation will facilitate CBP to gather information on travelers from Guam-CNMI Visa Waiver Program countries to determine their admissibility to enter Guam or the CNMI. In addition, CBP intends to migrate from paper I-736 to a mandatory automated environment; therefore, the collection of a paper form will no longer be acceptable. However, after the regulation implementing mandatory automation is published, CBP will grant a transition period of three months to facilitate travelers adjusting to the new collection method. At the end of the transition period, the paper I-736 form will become obsolete and travelers must input and submit in advance their personal information and respond to the eligibility questions using the new electronic format. The travelers' information is pre-screened or vetted against law enforcement databases. Based on the results of the pre-screening, the application is approved or denied. The system generates a board or no board status message to the carrier indicating a denied or approved authorization to board before the flight. The applicant also receives a message with the application status: approved, denied, canceled or pending. All information will be saved in the newly created Guam-CNMI Visa Waiver Program database.

Estimated Number of Respondents: 1,560,000.

Estimated Number of Annual Responses per Respondent: 1.

Estimated Number of Total Annual Responses: 1,560,000.

Estimated Time per Response: 19 minutes (0.316 hours).

Estimated Total Annual Burden Hours: 492,960.

Dated: June 16, 2020.
Seth D. Renkema,
Branch Chief, Economic Impact Analysis Branch, U.S. Customs and Border Protection.

[FR Doc. 2020-13296 Filed 6-19-20; 8:45 am]

BILLING CODE 9111-14-P